DEPARTMENT OF HEALTH AND HUMAN SERVICES

National Institutes of Health

Center for Scientific Review; Amended Notice of Meeting

Notice is hereby given of a change in the meeting of the Skeletal Muscle and Exercise Physiology Study Section, November 14, 2005, 8:30 a.m. to November 15, 2005, 4 p.m., Wyndham Washington, DC, 1400 M Street, NW., Washington, DC 20005 which was published in the Federal Register on November 1, 2005, 70 FR 65919-65922.

The meeting will be held at the Marriott Crystal Hotel, 1999 Jefferson Davis Highway, Arlington, VA 22202. The meeting dates and time remain the same. The meeting is closed to the public.

Dated: November 4, 2005.
Anna Snouffer,
Acting Director, Office of Federal Advisory Committee Policy.

[FR Doc. 05-22688 Filed 11-15-05; 8:45 am]

BILLING CODE 4140-01-M